DEPARTMENT OF COMMERCE

National Oceanic and Atmospheric Administration

RIN 0648-XF053

Endangered and Threatened Species; Take of Anadromous Fish

AGENCY: National Marine Fisheries Service (NMFS), National Oceanic and Atmospheric Administration (NOAA), Commerce.

ACTION: Notice of determination and availability of analysis documents on ten hatchery programs rearing salmon and steelhead in Hood Canal, Puget Sound, Washington State.

SUMMARY: NMFS has evaluated ten Hatchery and Genetics Management Plans (HGMPs) submitted to NMFS pursuant to the limitation on take prohibitions for actions conducted under Limit 6 of the 4(d) Rule for salmon and steelhead promulgated under the Endangered Species Act (ESA). The HGMPs specify the propagation of Chinook, coho, pink, and fall chum salmon and steelhead in the Hood Canal watershed of Washington State. This document serves to notify the public that NMFS, by delegated authority from the Secretary of Commerce, has determined pursuant to Limit 6 of the ESA 4(d) Rule for salmon and steelhead that implementing and enforcing the plans will not appreciably reduce the likelihood of survival and recovery of Puget Sound Chinook salmon, Hood Canal summer chum, and Puget Sound steelhead.

DATES: The final determination on the HGMPs was made on October 17, 2016.

ADDRESSES: Requests for copies of the decision documents or any of the other associated documents should be directed to the Sustainable Fisheries Division, NOAA's National Marine Fisheries Service, 1201 NE Lloyd Blvd., Suite 1100, Portland, Oregon 97232. The documents are also available on the Internet at www.westcoast.fisheries .noaa.gov.

FOR FURTHER INFORMATION CONTACT: Charlene Hurst, Portland, Oregon, at phone number: (503) 230-230-5409, email: charlene.hurst@noaa.gov.

SUPPLEMENTARY INFORMATION:

ESA-Listed Species Covered in This Notice

Chinook salmon (Oncorhynchus tshawytscha): Threatened, Puget Sound, naturally produced and artificially propagated.

Steelhead (O. mykiss): Threatened, Puget Sound, naturally produced and artificially propagated.

Chum salmon (O. keta): Threatened, naturally produced and artificially propagated Hood Canal summer-run.

Background

The Washington Department of Fish and Wildlife (WDFW), the Port Gamble S'Klallam Tribe, The Skokomish Tribe, the United States Fish and Wildlife Service (USFWS), and NOAA's National Marine Fisheries Service (NMFS) Northwest Fisheries Science Center submitted ten Hatchery and Genetics Management Plans (HGMP) for salmon and steelhead hatchery programs in Hood Canal. The ten HGMPs were submitted for review and determination under Limit 6 of the ESA 4(d) Rule, 50 CPR 223.203(b)(6) (65 FR 42422; July 10, 2000, as amended 70 FR 37160; June 28, 2012).

Two of these programs are designed to preserve and bolster the natural spawning abundance of the native Hood Canal populations and contribute to recovery of the listed species. The remaining eights programs are operated for harvest augmentation purposes.

As required by § 223.203(b)(6) of the ESA 4(d) rule, NMFS must determine pursuant to 50 CFR 223.209 and pursuant to the government-to-government processes therein whether the ten plans for Hood Canal salmon and steelhead hatchery programs would appreciably reduce the likelihood of survival and recovery of the Puget Sound Chinook Salmon ESU, Hood Canal Summer Chum ESU, or Puget Sound Steelhead DPS. NMFS must take comments on how the plans address the criteria in § 223.203(b)(5) in making that determination.

Discussion of the Biological Analysis Underlying the Determination

Two of the programs, the Hamma Hamma Chinook salmon and Hood Canal Steelhead Supplementation programs, provide conservation benefits for species listed under the Endangered Species Act (ESA). The remaining eight programs are implemented to help meet tribal fishery harvest allocations guaranteed through treaties, as affirmed in United States v. Washington (1974) and through Pacific Salmon Treaty harvest sharing agreements with Canada.

The programs are intended to conserve native, ESA-listed and non-listed populations of salmon and steelhead in Hood Canal. NMFS' Sustainable Fisheries Division prepared, pursuant to section 7 of the ESA, a biological opinion to evaluate the effects of the action on listed salmonids. As described in SFD's biological opinion, the approval of the HGMPs is not likely to jeopardize the continued existence or recovery of listed Puget Sound Chinook salmon, Hood Canal Summer Chum Salmon, or Puget Sound steelhead, nor result in the destruction or adverse modification of their critical habitat.

The programs may also help attenuate impacts associated with climate change over the short-term by providing a refuge from adverse effects for the propagated species through circumvention of potentially adverse migration, natural spawning, incubation, and rearing conditions.

The HGMPs include provisions for annual reports that will assess compliance with performance standards established through the HGMPs. Reporting and inclusion of new information derived from HGMP research, monitoring, and evaluation activities provides assurance that performance standards will be achieved in future seasons. NMFS' evaluation is available on the West Coast Region Web site at http://www.westcoast.fisheries .noaa.gov.

Summary of Comments Received in Response to the Proposed Evaluation and Pending Determination

NMFS published notice of its proposed evaluation and pending determination on the plans for public review and comment on March 3, 2016 (81 FR 11192). The proposed evaluation and pending determination and an associated draft environmental assessment were available for public review and comment for 30 days.

During the public comment period, NMFS received one comment letter. None of the comments raised issues that required substantive modification of the NMFS 4(d) or NEPA documents. The comments and NMFS' detailed responses are available on the West Coast Region Web site, as an appendix to the environmental assessment. Based on its evaluation and recommended determination and taking into account the public comments, NMFS issued its final determination on the Hood Canal salmon and steelhead hatchery plans.

Authority

Under section 4 of the ESA, the Secretary of Commerce is required to adopt such regulations as he deems necessary and advisable for the conservation of species listed as threatened. The ESA salmon and steelhead 4(d) rule (65 FR 42422; July 10, 2000) specifies categories of activities that contribute to the conservation of listed salmonids and sets out the criteria for such activities. The rule further provides that the prohibitions of paragraph (a) of the rule do not apply to actions undertaken in compliance with a plan developed jointly by a state and a tribe and determined by NMFS to be in accordance with the salmon and steelhead 4(d) rule (65 FR 42422; July 10, 2000).

Dated: November 30, 2016.
Angela Somma,
Chief, Endangered Species Division, Office of Protected Resources, National Marine Fisheries Service.

[FR Doc. 2016-29068 Filed 12-2-16; 8:45 am]

BILLING CODE 3510-22-P